NATIONAL FOUNDATION ON THE ARTS AND THE HUMANITIES

30-Day Notice for the “Arts Basic Survey”; Proposed Collection; Comment Request

AGENCY: National Endowment for the Arts.

ACTION: Notice, request for comments, collection of information.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed collection of information for the Arts Basic Survey. Copies of this ICR, with applicable supporting documentation, may be obtained by visiting www.Reginfo.gov.

DATES: Written comments must be submitted to the office listed in the address section below within 30 days from the date of this publication in the Federal Register.

ADDRESSES: Written comments and recommendations for the proposed information collection should be sent within 30 days from the date of publication of this Notice to www.reginfo.gov/public/do/PRAMain. Find this particular information collection by selecting, “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the Agency, including whether the information will have practical utility;

• Evaluate the accuracy of the Agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting the electronic submissions of responses.

Agency: National Endowment for the Arts.

Title: Arts Basic Survey.

OMB Control Number: 3135-0131.

Type of Review: Regular.

Affected Public: Individuals and Households.

Estimated Number of Respondents: 24,000.

Estimated Annual Time per Respondent (Hours): 0.04167.

Total Annual Burden Hours: 1,000.

Total Annualized Capital/Startup Costs: 0.

Total Annual Costs (operating/maintaining systems or purchasing services): The total one-time cost to the federal government for all activities associated with this collection is $390,000.

Description: This request is for clearance to conduct the 2025 Arts Basic Survey (ABS) (formally titled Annual Arts Benchmarking Survey, and Annual Arts Basic Survey). This survey will be conducted by the U.S. Census Bureau as a supplement to the Bureau of Labor Statistic's Current Population Survey. The ABS will be conducted in February 2025 and serves as a supplement when the National Endowment for the Arts' (NEA) Survey of Public Participation in the Arts (SPPA) is not conducted. To date, the ABS was conducted six times from 2013 to 2020. One of the strengths of the ABS is that it will complement and supplement the information collected in the SPPA. The SPPA is the field's premiere repeated cross-sectional survey of individual attendance and involvement in arts and cultural activities, and is conducted approximately every five years. The ABS is much shorter than the SPPA, consisting of 12 to 14 questions per module that will be used to track arts participation over time.

As with the SPPA, the ABS data will be circulated to interested researchers and will be the basis for a range of NEA reports and independent research publications. Reports on these data will be made publicly available on the NEA's website or NEA-designated websites. The ABS will provide primary knowledge on the extent and nature of participation in the arts in the United States.

Dated: September 11, 2024.
RaShaunda Thomas,
Administrative Officer (Deputy), Office of Administrative Services & Contracts, National Endowment for the Arts.

[FR Doc. 2024-20996 Filed 9-13-24; 8:45 am]

BILLING CODE 7537-01-P